SURFACE TRANSPORTATION BOARD

[Docket No. EP 519 (Sub-No. 4)]

Notice of National Grain Car Council Meeting

AGENCY: Surface Transportation Board.

ACTION: Notice of National Grain Car Council meeting.

SUMMARY: Notice is hereby given of a meeting of the National Grain Car Council (NGCC), pursuant to the Federal Advisory Committee Act.

DATES: The meeting will be held on Thursday, August 25, 2022, beginning at 1:00 p.m. (CDT), and is expected to conclude at 5:00 p.m. (CDT).

ADDRESSES: The meeting will be held at The Westin Kansas City at Crown Center, 1 East Pershing Road, Kansas City, MO 64108.

FOR FURTHER INFORMATION CONTACT: Alan Cassiday at (202) 245-0308 or alan.cassiday@stb.gov.

SUPPLEMENTARY INFORMATION: The NGCC was established by the Interstate Commerce Commission (ICC) as a working group to facilitate private-sector solutions and provide recommendations to the ICC (and now the Surface Transportation Board (Board)) on matters affecting rail grain car availability and transportation. Nat'l Grain Car Supply—Conference of Interested Parties, EP 519 (ICC served Jan. 7, 1994).

The general purpose of this meeting is to discuss rail carrier preparedness to transport the 2022 grain harvest. Agenda items include the following: remarks by NGCC Chair Shane Berrett, Board Chairman Martin J. Oberman, Board Vice Chairman and NGCC Co-Chair Michelle A. Schultz, and Board Members Patrick J. Fuchs, Karen J. Hedlund, and Robert E. Primus; reports by member groups on expectations for the upcoming harvest, domestic and foreign markets, the supply of rail cars, and rail service; and market and industry updates. The full agenda will be posted on the Board's website at www.stb.gov/resources/stakeholder-committees/grain-car-council.

The meeting will be conducted pursuant to the Federal Advisory Committee Act, 5 U.S.C. app. 2; Federal Advisory Committee Management, 41 CFR part 102-3; the NGCC charter; and Board procedures.

Public Attendance: This meeting is open to the public on a space-available, first-come first-served basis.

Public Comments: Members of the public may submit written comments to the NGCC at any time. Comments should be addressed to Alan Cassiday, Designated Federal Officer for the NGCC, at alan.cassiday@stb.gov. Any further communications about this meeting will be announced through the Board's website, www.stb.gov.

Decided: July 12, 2022.
By the Board, Mai T. Dinh, Director, Office of Proceedings.
Brendetta Jones,
Clearance Clerk.

[FR Doc. 2022-15239 Filed 7-15-22; 8:45 am]

BILLING CODE 4915-01-P